FEDERAL COMMUNICATIONS COMMISSION

47 CFR Part 73

[DA 05-1478; MB Docket No. 05-35; RM-11134]

Radio Broadcasting Services; Charlotte and Jackson, MI

AGENCY: Federal Communications Commission.

ACTION: Final rule.

SUMMARY: In response to a Notice of Proposed Rule Making, 70 FR 8332 (February 18, 2005), this Report and Order reallots Channel 291B, Station WJXQ(FM) (“WJXQ”), Jackson, Michigan, to Charlotte, Michigan, and modifies Station WJXQ's license accordingly. The coordinates for Channel 291B at Charlotte, Michigan are 42-23-28 NL and 84-37-22 WL, with a site restriction of 30 kilometers (16.1 miles) southeast of Charlotte.

DATES: Effective July 11, 2005.

FOR FURTHER INFORMATION CONTACT: R. Barthen Gorman, Media Bureau, (202) 418-2180.

SUPPLEMENTARY INFORMATION: This is a synopsis of the Commission's Report and Order, MB Docket No. 05-35, adopted May 25, 2005, and released May 27, 2005. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

Channel 283A has been inadvertently listed in 47 CFR 73.202(b), FM Table of Allotments under Jackson, Michigan, since October 1, 1995. We have no record that such an allotment has actually been made. Accordingly, the Report and Order deletes Channel 283A from 47 CFR 73.202(b) under Jackson, Michigan.

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334, and 336.

§ 73.202 [Amended]

2. Section 73.202(b), the Table of FM Allotments under Michigan, is amended by removing Channel 291B and Channel 283A at Jackson and by adding Channel 291B at Charlotte.

Federal Communications Commission.
John A. Karousos,
Assistant Chief, Audio Division, Media Bureau.

[FR Doc. 05-11377 Filed 6-7-05; 8:45 am]

BILLING CODE 6712-01-P